DEPARTMENT OF THE INTERIOR

Office of the Secretary

Establishment of National Geospatial Advisory Committee

AGENCY: Office of the Secretary, Interior.

ACTION: Notice of Establishment of National Geospatial Advisory Committee.

SUMMARY: The Department of the Interior, after consultation with the General Services Administration, has established the National Geospatial Advisory Committee under the authority of the Federal Advisory Committee Act (FACA). The Committee will provide advice and recommendations to the Federal Geographic Data Committee (FGDC), through the FGDC Chair (the Secretary of the Interior or designee), related to management of Federal geospatial programs, the development of the National Spatial Data Infrastructure (NSDI), and the implementation of Office of Management and Budget (OMB) Circular A-16 and Executive Order 12906. The Committee will review and comment upon geospatial policy and management issues and will provide a forum to convey views representative of non-Federal partners in the geospatial community.

DATES: Comments regarding the establishment of this Committee may be submitted by January 28, 2008,

ADDRESSES: Send comments to John Mahoney, U.S. Geological Survey, U.S. Department of the Interior, 909 First Avenue, Suite 422, Seattle, Washington 98104, e-mail address jmahoney@usgs.gov.

FOR FURTHER INFORMATION CONTACT: John Mahoney, USGS (206-220-4621),

SUPPLEMENTARY INFORMATION: We are publishing this notice in accordance with the requirements of the FACA (5 U.S.C. App.). The Secretary of the Interior certifies that he has determined that the formation of the Committee is necessary and is in the public interest.

The Committee will conduct its operations in accordance with the provisions of the FACA. It will report to the Secretary of the Interior through the Chair of the FGDC Steering Committee and will function solely as an advisory body. The Committee will provide recommendations and advice to the Department and the FGDC on policy and management issues related to the effective operation of Federal geospatial programs.

The Secretary of the Interior will appoint Committee members and their alternates to the Committee to serve 2-year terms. The Committee will be composed of approximately 25 representatives, who will be selected to generally achieve a balanced representation of the viewpoints of the various stakeholders involved in national geospatial activities and the development of the NSDI.

The Committee is expected to meet approximately 3-4 times per year. Committee members will serve without compensation. Travel and per diem costs will be provided for Committee members by the U.S. Geological Survey (USGS). The USGS will provide necessary support services to the Committee. Committee meetings will be open to the public. Notice of committee meetings will be published in the Federal Register at least 15 days before the date of the meeting. The public will have an opportunity to provide input at these meetings.

In accordance with the FACA, we will file a copy of the Committee's charter with the Committee Management Secretariat, General Services Administration; Committee on Energy and Natural Resources, United States Senate; Committee on Natural Resources, United States House of Representatives; and the Library of Congress.

The Certification for establishment is published below.

Certification

I hereby certify that the National Geospatial Advisory Committee is necessary and is in the public interest in connection with the performance of duties imposed on the Department of the Interior by OMB Circular A-16 (Revised), “Coordination of Geographic Information and Related Spatial Data Activities.” The Committee will assist the Department of the Interior by providing advice and recommendations related to the management of Federal geospatial programs and the development of the National Spatial Data Infrastructure.

Dated: December 20, 2007.
Dirk Kempthorne,
Secretary of the Interior.

[FR Doc. 08-70 Filed 1-10-08; 8:45 am]

BILLING CODE 4311-AM-M